DEPARTMENT OF HEALTH AND HUMAN SERVICES

Centers for Disease Control and Prevention

[30Day-17-16AWK]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Survey of Surveillance Records of Aedes aegypti and Aedes albopictus from 1960 to Present—New—National Center for Emerging and Zoonotic Infectious Diseases (NCEZID), Centers for Disease Control and Prevention (CDC).

Background and Brief Description

The Zika virus response necessitates the collection of county and sub-county level records for Aedes aegypti and Aedes albopictus, the vectors of Zika virus. This information will be used to update species distribution maps for the United States and to develop a model aimed at identifying where these vectors can survive and reproduce. CDC is seeking a six-month OMB clearance to collect information.

In February, 2016, OMB issued emergency clearance for a county-level survey of vector surveillance records (OMB Control No. 0920-1101, expiration date 8/31/2016). The previous survey aimed to describe the current reported distribution of the Zika virus vectors Aedes aegypti and Aedes albopictus. The survey revealed that we are lacking records from recent years of both species from areas where we expect to find Zika vectors based on historical records and environmental suitability. It is likely that the reason for this is because from 2004-2015 most vector surveillance focused on vectors of West Nile virus (Culex spp.) rather than Zika vectors.

As part of the Zika response, efforts to identify Ae. aegypti and Ae. albopictus in the continental U.S. were substantially enhanced during 2016 and funding will be provided to states to continue to enhance surveillance for these vectors. By repeating the survey, we will have a more complete assessment of where these vectors are currently being reported. In the new survey, we will also seek information on locations of the mosquito traps at sub-county spatial scales. Such information will aid in (1) targeting vector control efforts to prevent mosquito-borne Zika virus transmission in the continental U.S. and (2) targeting future vector surveillance efforts.

The purpose of the mosquito surveillance survey is to collect county and sub-county-level records for Aedes aegypti and Aedes albopictus, the vectors of Zika virus. The resulting maps and models will inform the public and policy makers of the known distribution of these vectors, identify gaps in vector surveillance, and target allocation of surveillance and prevention resources.

Respondents will include vector control professionals, entomologists, and public health professionals who will be contacted by email, primarily through listserv(s) of professional organizations. They will be asked for their voluntary participation in a short survey to assess the distribution of Aedes aegypti and Aedes albopictus at county and sub-county spatial scales in the U.S.

This information collection request is authorized by Section 301 of the Public Health Service Act (42 U.S.C. 241). The total estimated annualized number of burden hours is 125. There will be no anticipated costs to respondents other than time.

Estimated Annualized Burden Hours
Type of respondents | Form name | Number of respondents | Number of responses/respondent | Average burden per response (in hours)
Vector Control professionals, entomologists, and Public Health Professionals | Survey of county-level surveillance records of Aedes aegypti and Aedes albopictus | 500 | 1 | 15/60

Leroy A. Richardson,
Chief, Information Collection Review Office, Office of Scientific Integrity, Office of the Associate Director for Science, Office of the Director, Centers for Disease Control and Prevention.

[FR Doc. 2016-24845 Filed 10-13-16; 8:45 am]

BILLING CODE 4163-18-P